DEPARTMENT OF VETERANS AFFAIRS

Notice of Availability of a Record of Decision for a Replacement Robley Rex Department of Veterans Affairs Medical Center, Louisville, Kentucky

AGENCY: Department of Veterans Affairs.

ACTION: Notice of availability.

SUMMARY: The Department of Veterans Affairs (VA) announces the availability of the Record of Decision (ROD) for the siting, construction, and operation of a new campus to replace the existing Robley Rex VA Medical Center (VAMC), and three community-based outpatient clinics in Louisville, Kentucky. VA considered comments received on the Draft EIS issued in October 2016; identified VA's preferred alternative in the Final EIS issued on April 28, 2017; and hereby incorporates by reference the Final EIS into the ROD.

DATES: VA is publishing the Record of Decision more than 30 days after publishing the Final EIS.

ADDRESSES: The ROD is available for viewing on the Web site www.louisville.va.gov/newmedicalcenter.

FOR FURTHER INFORMATION CONTACT: Replacement VAMC Activation Team Office, 800 Zorn Avenue, Louisville, KY 40206, Email: LouisvilleReplacementHospitalComments@va.gov.

SUPPLEMENTARY INFORMATION: Based on the detailed analysis in the Final EIS, along with public input and the implementation of identified management and mitigation measures to minimize impacts identified in Chapter 5 of the Final EIS, Preferred Alternative A (Brownsboro Site) is fully consistent with the Agency's mission to provide high-quality, safe and accessible health care for Veterans well into the 21st Century; and has been shown to fully meet the VA's purpose and need for action. Through a rigorous site selection process and for reasons described in Chapter 2 of the Final EIS, VA narrowed the list of most suitable sites to the Brownsboro and St. Joseph sites, and has determined that the existing VAMC cannot be expanded or rebuilt to fully meet the current and projected health care needs of Louisville-area Veterans. The Brownsboro Site is located in closer proximity to the University of Louisville Hospital in downtown Louisville and thus would better facilitate continued collaboration between that facility and the VAMC. Its more central location is also closer to Veterans and VAMC employees living in other parts of the Louisville Metro area (e.g. west and south), and it offers more direct access via multiple interstates and major roads for those Veterans coming from other parts of the service area. With respect to environmental concerns, it contains no surface water resources or wetlands and fewer protected species than the St. Joseph Site.

VA acknowledges there would be potential adverse impacts associated with the Brownsboro Site, although similar adverse effects would also occur at the St. Joseph Site, particularly related to traffic, which is one of the main reasons for public opposition to the Brownsboro Site.

The ROD is available for viewing on the VA Web site at www.louisville.va.gov/newmedicalcenter/ and at the St. Matthews and Westport Branches of the Louisville Free Public Library located at 3940 Grandview Avenue, Louisville, KY 40207 and 8100 Westport Road, Louisville, KY 40222, respectively. Information related to the EIS process is also available for viewing on the VA Web site at www.louisville.va.gov/newmedicalcenter/.

Signing Authority: The Secretary of Veterans Affairs, or designee, approved this document and authorized the undersigned to sign and submit the document to the Office of the Federal Register for publication electronically as an official document of the Department of Veterans Affairs. Gina S. Farrisee, Deputy Chief of Staff, Department of Veterans Affairs, approved this document on October 12, 2017, for publication.

Dated: October 12, 2017.
Jeffrey Martin,
Office Program Manager, Office of Regulation Policy & Management, Office of the Secretary, Department of Veterans Affairs.

[FR Doc. 2017-22842 Filed 10-19-17; 8:45 am]

BILLING CODE 8320-01-P